DEPARTMENT OF HOMELAND SECURITY

Coast Guard

33 CFR Part 165

Regulated Navigation Areas and Limited Access Areas

CFR Correction

This rule is being published by the Office of the Federal Register to correct an editorial or technical error that appeared in the most recent annual revision of the Code of Federal Regulations.

In Title 33 of the Code of Federal Regulations, Parts 165 to 199, revised as of July 1, 2025, under the undesignated heading “Fourteenth Coast Guard District”, redesignate section 165.1415 as 165.1414, and redesignate section 165.14-1414 as 165.1415.

[FR Doc. 2025-18201 Filed 9-18-25; 8:45 am]

BILLING CODE 0099-10-P